DEPARTMENT OF COMMERCE

National Oceanic and Atmospheric Administration

[I.D. 111301C]

North Pacific Fishery Management Council; Public Meetings

AGENCY: National Marine Fisheries Service (NMFS), National Oceanic and Atmospheric Administration (NOAA), Commerce.

ACTION: Notice of public meetings.

SUMMARY: The North Pacific Fishery Management Council (NPFMC) and its advisory committees will hold public meetings.

DATES: The meetings will be held on December 2-10, 2001. See SUPPLEMENTARY INFORMATION for specific dates and times.

ADDRESSES: The meetings will be held at the Hilton Hotel, 500 W. 3rd Avenue, Anchorage, AK.

Council address: North Pacific Fishery Management Council, 605 W. 4th Ave., Suite 306, Anchorage, AK 99501-2252.

FOR FURTHER INFORMATION CONTACT: Council staff, Phone: 907-271-2809.

SUPPLEMENTARY INFORMATION: The NPFMC’s Individual Fishery Quota (IFQ) and Cost Recovery Committee will meet on Sunday, December 2, between 1 p.m. and 5 p.m.. The NPFMC’s Advisory Panel will begin at 8 a.m., Monday, December 3, and continue through Friday, December 7, 2001. The Scientific and Statistical Committee will begin at 8 a.m. on Monday, December 3, and continue through Thursday, December 6, 2001.

The NPFMC will begin its plenary session at 8 a.m. on Wednesday, December 5, continuing through Monday, December 10, 2001. All meetings are open to the public except executive sessions which may be held during the week at which the Council may discuss international issues, personnel, and/or current litigation.

Council: The agenda for the NPFMC’s plenary session will include the following issues. The NPFMC may take appropriate action on any of the issues identified.

1. Reports:

(a) Executive Director's Report.

(b) State Fisheries Report by Alaska Dept. of Fish and Game.

(c) NMFS Management Report.

(d) Enforcement and Surveillance reports by NMFS and the U.S. Coast Guard.

2. Community Development Program (CDQ):

(a) Final action on regulatory amendment for changes to the halibut CDQ program for regulatory areas 4E/4D.

(b) Initial review of amendment package for CDQ policy changes.

3. Seabird Avoidance Measures: Final action on revisions to regulations for seabird avoidance measures.

4. Rationalization of the Bering Sea/Aleutian Islands (BSAI) Crab Fisheries: Review progress on analysis and provide direction as appropriate.

5. American Fisheries Act (AFA):

(a) Review and comment on AFA Environmental Impact Statement (EIS) and proposed rule.

(b) Review discussion paper on extension of the AFA.

(c) Review co-op agreements and preliminary annual co-op reports.

(d) Review industry response to request from Alaska Department of Fish and Game for ownership information necessary to finalize the Council’s AFA report to Congress; consider approving submission of final report.

6. Halibut/Sablefish IFQ Program:

(a) Review report of IFQ Committee; staff direction as necessary.

(b) Initial review of analysis for Gulf of Alaska community purchase of quota shares.

7. Essential Fish Habitat (EFH) EIS: Receive Committee report and results of recent workshop and discuss alternatives for designating EFH and Habitat Areas of Particular Concern.

8. Programmatic Groundfish Supplemental EIS: Receive report from NPFMC Ecosystem Committee, review public comments, and consider process for selecting a Preferred Alternative.

9. Groundfish Management:

(a) Final Review of Stock Assessment and Fishery Evaluation (SAFE) documents for BSAI and Gulf of Alaska (GOA) groundfish fisheries for 2002.

(b) Set Total Allowable Catch and bycatch levels for BSAI and GOA groundfish fisheries for 2002.

(c) Receive report on Halibut Excluder Device research; provide comment or staff direction as appropriate.

(d) Review tasking and problem statement for differential gear impact analysis for Pacific cod.

(e) Discuss tasking an independent review of the Council’s F40 harvest strategy.

(f) Review discussion paper on catch and bycatch disclosure (if material is available); provide staff direction as appropriate.

(g) Review discussion paper on bycatch implications of Steller sea lion measures for 2002 (if data available).

10. Staff Tasking:

(a) Review existing tasking and provide direction as necessary.

(b) Receive status report on agency initiative to collect socio-economic data.

Scientific and Statistical Committee: The SSC agenda will include the following issues:

a. Seabird Avoidance Measures (Item #3 on the Council agenda)

b. BSAI Crab Rationalization (Item #4 on the Council agenda)

c. Halibut/Sablefish IFQ issues (Item #6 on the Council agenda)

d. Essential Fish Habitat (Item #7 on the Council agenda)

e. Groundfish SEIS (Item #8 on the Council agenda)

f. Bering Sea/Aleutian Islands and Gulf of Alaska SAFE documents (Item #9(a) on the Council agenda)

g. Independent review of the Council’s F40 harvest strategy (Item #9 (e) on the Council agenda)

Advisory Panel: The Advisory Panel will address the same agenda issues as the Council, with the exception of the Reports under Item 1 of the Council agenda.

IFQ Implementation/Cost Recovery Committee: The committee will address the following issues:

1. Review NMFS’s estimated IFQ fee and budget costs for 2002.

2. Review enforcement issues (prior notice of landing; offload “window”; shipment report; and vessel clearance).

Other impromptu workgroup or committee meetings may be scheduled during the meeting week; such meetings will be announced in the various meetings and posted in the hotel.

Although non-emergency issues not contained in this agenda may come before this group for discussion, those issues may not be the subject of formal action during these meetings. Action will be restricted to those issues specifically listed in this notice and any issues arising after publication of this notice that require emergency action under section 305 (c) of the Magnuson-Stevens Act, provided the public has been notified of the NPFMC’s intent to take final action to address the emergency.

Special Accommodations

These meetings are physically accessible to people with disabilities. Requests for sign language interpretation or other auxiliary aids should be directed to Helen Allen at 907-271-2809 at least 7 working days prior to the meeting date.

Dated: November 14, 2001.
Richard W. Surdi,
Acting Director, Office of Sustainable Fisheries, National Marine Fisheries Service.

[FR Doc. 01-28878 Filed 11-16-01; 8:45 am]

BILLING CODE 3510-22-S